NUCLEAR REGULATORY COMMISSION

Advisory Committee on the Medical Uses of Isotopes: Meeting Notice

AGENCY: Nuclear Regulatory Commission.

ACTION: Notice of telephone conference meeting.

SUMMARY: The U.S. Nuclear Regulatory Commission will convene a telephone conference meeting of the Advisory Committee on the Medical Uses of Isotopes (ACMUI) on July 8, 2002. The meeting will take place at the address provided below. At this meeting, the ACMUI will discuss the recommendations from the June 21, 2002, ACMUI subcommittee meeting. The ACMUI subcommittee is charged with formulating recommended changes to the training and experience requirements of authorized users in the revised 10 CFR part 35, Medical Use of Byproduct Material.

DATES: ACMUI will hold a public meeting on Monday, July 8, 2002, from 1 to 5 p.m.

ADDRESS FOR PUBLIC MEETING: U.S. Nuclear Regulatory Commission Auditorium, Two White Flint North Building, 11545 Rockville Pike, Rockville, MD 20852-2738.

FOR FURTHER INFORMATION CONTACT: Linda M. Psyk, telephone (301) 415-0215; e-mail lmp1@nrc.gov of the Office of Nuclear Material Safety and Safeguards, U.S. Nuclear Regulatory Commission, Washington, DC 20555-0001.

Conduct of the Meeting

Manuel D. Cerqueira, M.D., will chair the meeting. Dr. Cerqueira will conduct the meeting in a manner that will facilitate the orderly conduct of business. The following procedures apply to public participation in the meeting:

1. Persons who wish to provide a written statement should submit a reproducible copy to Linda M. Psyk, U.S. Nuclear Regulatory Commission, Two White Flint North, Mail Stop T8F5, 11545 Rockville Pike, Rockville, MD 20852-2738. Submittals must be postmarked by June 21, 2002, and must pertain to the topics on the agenda for the meeting.

2. Questions from members of the public will be permitted during the meeting, at the discretion of the Chairman.

3. The transcript and written comments will be available for inspection on NRC's Web site (www.nrc.gov) and at the NRC Public Document Room, 11555 Rockville Pike, Rockville, MD 20852-2738, telephone (800) 397-4209, on or about August 30, 2002. Minutes of the meeting will be available on or about September 9, 2002.

This meeting will be held in accordance with the Atomic Energy Act of 1954, as amended (primarily Section 161a); the Federal Advisory Committee Act (5 U.S.C. App); and the Commission's regulations in Title 10, U.S. Code of Federal Regulations, part 7.

Dated: June 5, 2002.
Andrew L. Bates,
Advisory Committee Management Officer.

[FR Doc. 02-14622 Filed 6-10-02; 8:45 am]

BILLING CODE 7590-01-P